DEPARTMENT OF HEALTH AND HUMAN SERVICES

Centers for Disease Control and Prevention

[30Day-22-1275]

Agency Forms Undergoing Paperwork Reduction Act Review

In accordance with the Paperwork Reduction Act of 1995, the Centers for Disease Control and Prevention (CDC) has submitted the information collection request titled “Promoting Adolescent Health through School-Based HIV Prevention” to the Office of Management and Budget (OMB) for review and approval. CDC previously published a “Proposed Data Collection Submitted for Public Comment and Recommendations” notice on April 8, 2022, to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Promoting Adolescent Health through School-Based HIV Prevention, (OMB Control No. 0920-1275, Exp. 11/30/2022)—Extension—National Center for HIV, Viral Hepatitis, STD, and TB Prevention (NCHHSTP), Centers for Disease Control and Prevention (CDC).

Background and Brief Description

Many young people engage in sexual behaviors that place them at risk for HIV infection, other sexually transmitted diseases (STD), and pregnancy. According to the 2017 Youth Risk Behavior Survey (YRBS), 39.5% of high school students in the United States had never had sexual intercourse and 28.7% were currently sexually active. Among currently sexually active students, 46.2% did not use a condom, and 13.8% did not use any method to prevent pregnancy the last time they had sexual intercourse. While the proportion of high school students who are sexually active has steadily declined, half of the 20 million new STDs reported each year are among young people between the ages of 15 and 24. Young people aged 13-24 account for 21% of all new HIV diagnoses in the United States, with most occurring among 20-24-year-olds.

Establishing healthy behaviors during childhood and adolescence is easier and more effective than trying to change unhealthy behaviors during adulthood. One venue that offers valuable opportunities for improving adolescent health is at school. Schools have direct contact with over 50 million students for at least six hours a day over 13 key years of their social, physical, and intellectual development. In addition, schools often have staff with knowledge of critical health risk and protective behaviors and have pre-existing infrastructure that can support a varied set of healthful interventions. This makes schools well-positioned to help reduce adolescents' risk for HIV infection and other STD through sexual health education (SHE), access to sexual health services (SHS), and safe and supportive environments (SSE).

Since 1987, the Division of Adolescent and School Health (DASH) in the National Center for HIV/AIDS, Viral Hepatitis, STD, and TB Prevention (NCHHSTP) of the Centers for Disease Control and Prevention (CDC), has worked to support HIV prevention efforts in the nation's schools. CDC requests OMB approval to collect data over a two-year period from funded agencies under award PS18-1807: Promoting Adolescent Health through School-Based HIV Prevention. Funded agencies are local education agencies (LEAs), also known as school districts. The fundamental purposes of PS18-1807 are to build and strengthen the capacity of LEAs and their priority schools to effectively contribute to the reduction of HIV infection and other STD among adolescents; and the reduction of disparities in HIV infection and other STD experienced by specific adolescent sub-populations. Priority schools are middle and high schools within the funded LEAs in which youth are at risk for HIV infection and other STDs. This funding supports a multi-component, multilevel effort to support youth reaching adulthood in the healthiest possible way.

CDC will use a web-based system to collect data on the approaches that LEAs are using to meet their goals. Approaches include helping LEAs and priority schools deliver SHE emphasizing HIV and other STD prevention; increasing adolescent access to key SHS; and establishing SSEs for students and staff. Given the impact of the COVID-19 pandemic on schools, these data will also be used to help understand which approaches LEAs were able to implement during the pandemic and which approaches presented challenges in this context.

To track LEA progress and evaluate the effectiveness of program activities, CDC will collect data using a mix of process and outcome measures. Process measures to be completed by all LEAs will assess the extent to which planned program activities have been implemented and lead to feasible and sustainable programmatic outcomes. Process measures include items on school health policy and practice assessment and training and technical assistance received from non-governmental partner organizations. Outcome measures, which will be completed by local education agencies, assess whether funded activities at each site are leading to intended outcomes including public health impact of systemic change in schools. These measures drove the development of questionnaires that have been tailored to each LEA's strategies (i.e., SHE, SHS, SSE).

Respondents are the same 25 LEAs that have been funded under PS18-1807. LEAs will continue to complete the questionnaires semi-annually using the Program Evaluation and Reporting System (PERS), an electronic web-based interface specifically designed for this data collection. CDC anticipates that semi-annual information collection will continue after the current OMB approval time frame ends on November 30, 2022. With this extension, additional data collection will be conducted at two time points, November 1, 2022-March 1, 2023, and May 1, 2023-September 1, 2023. The estimated burden per response is approximately 2-26 hours. This estimate includes time for LEAs to gather information at the district and school levels. Annualizing this collection over two years results in an estimated annualized burden of 1,750 hours per year and a total of 3,500 hours for the requested two-year extension across all funded LEAs. There are no costs to respondents other than their time to participate.

Estimated Annualized Burden Hours
Type of respondents | Form name | Number of respondents | Number of responses per respondent | Average burden per response (in hours)
Local Education Agencies | Funded District Questionnaire | 25 | 2 | 2
| Priority School Questionnaire | 25 | 2 | 26
| District Assistance Questionnaire | 25 | 2 | 7

Jeffrey M. Zirger,
Lead, Information Collection Review Office, Office of Scientific Integrity, Office of Science, Centers for Disease Control and Prevention.

[FR Doc. 2022-21216 Filed 9-29-22; 8:45 am]

BILLING CODE 4163-18-P